DEPARTMENT OF ENERGY

Federal Energy Regulatory Commission

Combined Notice of Filings #2

Take notice that the Commission received the following electric rate filings:

Docket Numbers: ER13-1488-007.

Applicants: Quantum Pasco Power, LP.

Description: Compliance filing: Quantum Pasco Power, LP Revised Electric Tariff to be effective 4/23/2016.

Filed Date: 4/22/16.

Accession Number: 20160422-5146.

Comments Due: 5 p.m. ET 5/13/16.

Docket Numbers: ER16-463-001.

Applicants: Midcontinent Independent System Operator, Inc., Ameren Illinois Company.

Description: Compliance filing: 2016-04-22_SA 2765 MidAmerican-Ameren Illinois 1st Rev TIA Compliance to be effective 2/18/2016.

Filed Date: 4/22/16.

Accession Number: 20160422-5091.

Comments Due: 5 p.m. ET 5/13/16.

Docket Numbers: ER16-920-001.

Applicants: Southwestern Public Service Company.

Description: Compliance filing: 4-22-16_ER13-1455 Comp Filing to be effective 4/20/2012.

Filed Date: 4/22/16.

Accession Number: 20160422-5144.

Comments Due: 5 p.m. ET 5/13/16.

Docket Numbers: ER16-1484-000.

Applicants: Goshen Phase II LLC.

Description: § 205(d) Rate Filing: Revised Market-Based Rate Tariff to be effective 6/22/2016.

Filed Date: 4/22/16.

Accession Number: 20160422-5074.

Comments Due: 5 p.m. ET 5/13/16.

Docket Numbers: ER16-1485-000.

Applicants: Midcontinent Independent System Operator, Inc.

Description: § 205(d) Rate Filing: 2016-04-22_MI ONT PARS MISO-PJM JOA Revisions to be effective 6/22/2016.

Filed Date: 4/22/16.

Accession Number: 20160422-5135.

Comments Due: 5 p.m. ET 5/13/16.

Docket Numbers: ER16-1486-000.

Applicants: PJM Interconnection, L.L.C.

Description: § 205(d) Rate Filing: Revisions to MISO-PJM JOA re: MI-Ont PARS Congestion Mgmt to be effective 6/22/2016.

Filed Date: 4/22/16.

Accession Number: 20160422-5141.

Comments Due: 5 p.m. ET 5/13/16.

Docket Numbers: ER16-1487-000.

Applicants: PJM Interconnection, L.L.C.

Description: § 205(d) Rate Filing: First Revised Interconnection Service Agreement No. 3767, Queue No. AA1-078 to be effective 3/23/2016.

Filed Date: 4/22/16.

Accession Number: 20160422-5145.

Comments Due: 5 p.m. ET 5/13/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 22, 2016.
Nathaniel J. Davis, Sr.,
Deputy Secretary.

[FR Doc. 2016-10022 Filed 4-28-16; 8:45 am]

BILLING CODE 6717-01-P